FEDERAL COMMUNICATIONS COMMISSION

47 CFR Part 73

[DA No. 00-494, MM Docket No. 99-256; RM-9527]

Radio Broadcasting Services; Refugio and Taft, TX

AGENCY: Federal Communications Commission.

ACTION: Final rule.

SUMMARY: This document substitutes Channel 293C2 for Channel 291C3 at Refugio, Texas, reallots Channel 293C2 from Refugio, Texas, to Taft, Texas, and modifies the license for Station KTKY(FM) to specify operation on Channel 293C2 at Taft in response to a petition filed by Pacific Broadcasting of Missouri, L.L.C. See 64 FR 39963, July 23, 1999. The coordinates for Channel 293C2 at Taft are 27-52-00 and 97-13-08. We shall also allot Channel 291A to Refugio, Texas, at coordinates 28-21-58 and 97-19-11. Mexican concurrence has been received for the allotments at Refugio and Taft, Texas. With this action, this proceeding is terminated.

EFFECTIVE DATE: April 17, 2000.

FOR FURTHER INFORMATION CONTACT: Kathleen Scheuerle, Mass Media Bureau, (202) 418-2180.

SUPPLEMENTARY INFORMATION: This is a summary of the Commission's Report and Order, MM Docket No. 99-256, adopted February 23, 2000, and released March 3, 2000. The full text of this Commission decision is available for inspection and copying during normal business hours in the Commission's Reference Center, 445 12th Street, SW, Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

PART 73—[AMENDED]

1. The authority citation for Part 73 continues to read as follows:

Authority: 47 U.S.C. 154, 303, 334 and 336.

§ 73.202 [Amended]

2. Section 73.202(b), the Table of FM Allotments under Texas, is amended by removing Channel 291C3 and adding Channel 291A at Refugio and adding Taft, Channel 293C2.

Federal Communications Commission.

John A. Karousos,
Chief, Allocations Branch, Policy and Rules Division, Mass Media Bureau.

[FR Doc. 00-6052 Filed 3-10-00; 8:45 am]

BILLING CODE 6712-01-U